DEPARTMENT OF LABOR

Mine Safety and Health Administration

[OMB Control Number 1219-0019]

Proposed Extension of Information Collection: Slope and Shaft Sinking Plans, 30 CFR 77.1900 (Pertains to the Surface Work Areas of Underground Coal Mines)

AGENCY: Mine Safety and Health Administration, Labor.

ACTION: Request for public comments.

SUMMARY: The Department of Labor (DOL), as part of its continuing effort to reduce paperwork and respondent burden, conducts a pre-clearance consultation program for all information collections, to provide the public and Federal agencies with an opportunity to comment on proposed collections of information, in accordance with the Paperwork Reduction Act of 1995. This program helps to ensure that requested data can be provided in the desired format, reporting burden (time and financial resources) is minimized, collection instruments are clearly understood, and the impact of collection requirements on respondents can be properly assessed. The Mine Safety and Health Administration (MSHA) is soliciting comments on the information collection titled “Slope and Shaft Sinking Plans, 30 CFR 77.1900 (Pertains to the Surface Work Areas of Underground Coal Mines).”

DATES: All comments must be received on or before March 27, 2026.

ADDRESSES: Comments concerning the information collection requirements of this notice may be sent by any of the methods listed below. Please note that comments received after the deadline will not be considered.

• Federal E-Rulemaking Portal: https://www.regulations.gov. Follow the instructions for submitting comments for docket number MSHA-2025-0224.

• Mail/Hand Delivery: DOL-MSHA, Office of Standards, Regulations, and Variances, 200 Constitution Avenue NW, Room C3522, Washington, DC 20210. Before visiting MSHA in person, call 202-693-9440 to make an appointment.

• MSHA will post all comments as well as any attachments, except for information submitted and marked as confidential, in the docket at https://www.regulations.gov.

FOR FURTHER INFORMATION CONTACT: Jessica D. Senk, Acting Director, Office of Standards, Regulations, and Variances, MSHA, at MSHA.information.collections@dol.gov (email); (202) 693-9440 (voice); or (202) 693-9441 (facsimile). These are not toll-free numbers.

SUPPLEMENTARY INFORMATION:

I. Background

A. Legal Authority

Section 103(h) of the Federal Mine Safety and Health Act of 1977 (Mine Act), as amended, 30 U.S.C. 813(h), authorizes the Mine Safety and Health Administration (MSHA) to collect information necessary to carry out its duty in protecting the safety and health of miners. Further, section 101(a) of the Mine Act, 30 U.S.C. 811(a), authorizes the Secretary of Labor (Secretary) to develop, promulgate, and revise, as may be appropriate, improved mandatory health or safety standards for the protection of life and prevention of injuries in coal and metal and nonmetal (MNM) mines.

The Paperwork Reduction Act of 1995 (PRA), 44 U.S.C. 3501 et seq. governs paperwork burdens imposed on the public by Federal agencies for using identical questions to collect information from 10 or more persons. The PRA defines paperwork burden in 44 U.S.C. 3502(2) as time, effort, or financial resources expended to generate, maintain, or provide information to or for a Federal agency. Under 44 U.S.C. 3507, the PRA also establishes policies and procedures of information collection for controlling paperwork burdens imposed by Federal agencies on the public, including evaluating public comments.

B. Information Collection

To fulfill its statutory mandate to promote miners' health and safety, MSHA requires information under the information collection request (ICR) titled “Slope and Shaft Sinking Plans, 30 CFR 77.1900 (Pertains to the Surface Work Areas of Underground Coal Mines).” This information collection is intended to ensure that mine operators have slope and shaft plans to provide a safe working environment for miners.

Burden costs associated with the ICR include:

1. Submitting and approving slope and shaft plans

The associated standard that authorizes the collection of information is described below.

1. Submitting and Approving Slope and Shaft Plans

Under 30 CFR 77.1900(a), each operator of a coal mine shall prepare and submit for approval by the District Manager for the district in which the mine is located, a plan providing for the safety of workmen in each slope or shaft that is commenced or extended after June 30, 1971. The plan shall be consistent with prudent engineering design. The methods employed by the operator shall be selected to minimize the hazards to those employed in the initial or subsequent development of any such slope or shaft, and the plan shall include the following:

(1) The name and location of the mine, and the MSHA mine identification number, if known;

(2) The name and address of the mine operator;

(3) A description of the construction work and methods to be used in the construction of the slope or shaft, and whether part or all of the work will be performed by a contractor and a description of that part of the work to be performed by a contractor;

(4) The elevation, depth and dimensions of the slope or shaft;

(5) The location and elevation of the coalbed;

(6) The general characteristics of the strata through which the slope or shaft will be developed;

(7) The type of equipment which the operator proposes to use when the work is to be performed by the operator. When work is to be performed by a contractor the operator shall, as soon as known to him, supplement the plan with a description of the type of equipment to be used by the contractor;

(8) The system of ventilation to be used; and

(9) Safeguards for the prevention of caving during excavation.

II. Desired Focus of Comments

MSHA is soliciting comments concerning the proposed information collection titled “Slope and Shaft Sinking Plans, 30 CFR 77.1900 (Pertains to the Surface Work Areas of Underground Coal Mines).” MSHA is particularly interested in comments that:

• Evaluate whether the collection of information is necessary for the proper performance of the functions of the Agency, including whether the information has practical utility;

• Evaluate the accuracy of MSHA's estimate of the burden of the collection of information, including the validity of the methodology and assumptions used;

• Suggest methods to enhance the quality, utility, and clarity of the information to be collected; and

• Minimize the burden of the collection of information on those who are to respond, including through the use of appropriate automated, electronic, mechanical, or other technological collection techniques or other forms of information technology, e.g., permitting electronic submission of responses.

The ICR is available on https://www.regulations.gov. MSHA cautions commenters against providing any information in the submission that should not be publicly disclosed. Full comments, including personal information provided, will be made available on https://www.regulations.gov and https://www.reginfo.gov.

The public may also examine publicly available documents at DOL-MSHA, Office of Standards, Regulations and Variances, 200 Constitution Avenue NW, Room C3522, Washington, DC 20210. Before visiting MSHA in person, call 202-693-9440 to make an appointment.

Questions about the information collection requirements may be directed to the person listed in the FOR FURTHER INFORMATION CONTACT section of this notice.

III. Current Actions

This ICR concerns provisions for Slope and Shaft Sinking Plans, 30 CFR 77.1900 (Pertains to the Surface Work Areas of Underground Coal Mines). MSHA has updated the data with respect to the number of respondents, responses, time burden, and burden costs supporting this ICR from the previous ICR.

Type of Review: Extension, without change, of a currently approved collection.

Agency: Mine Safety and Health Administration.

OMB Number: 1219-0019.

Affected Public: Business or other for-profit entity.

Number of Annual Respondents: 20.

Frequency: On occasion.

Number of Annual Responses: 50.

Annual Time Burden: 1,001 hours.

Annual Respondent or Recordkeeper Costs: $30.

Comments submitted in response to this notice will be summarized and included in the request for Office of Management and Budget approval of the proposed ICR; they will become a matter of public record and be available at https://www.reginfo.gov.

Jessica D. Senk,
Certifying Officer, Mine Safety and Health Administration.

[FR Doc. 2026-01385 Filed 1-23-26; 8:45 am]

BILLING CODE 4510-43-P